DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Permit Family of Forms—Southwest.

OMB Control Number: 0648-0204.

Form Number(s): None.

Type of Request: Regular (extension of a currently approved information collection).

Number of Respondents: 1705.

Average Hours per Response: HMS permit applications, 30 minutes; HMS permit renewal applications, 3 minutes; CPS renewal applications, 15 minutes; CPS transfers, 30 minutes; photo requirement, 30 minutes; exempted fishing permits, 1 hour; appeals, 2 hours.

Burden Hours: 94.

Needs and Uses: This request is for a revision and extension to the existing reporting requirements approved under OMB Control Number 0648-0204, West Coast Region Family of Forms. The West Coast Region (WCR) Permits Office administers permits required for persons to participate in Federally-managed fisheries off the West Coast under the Magnuson-Stevens Fishery Conservation and Management act, 16 U.S.C. 1801 et seq. There are three types of permits: basic fishery permits for Highly Migratory Species (HMS), limited entry permits for Coastal Pelagic Species (CPS), and experimental fishing permits (EFP). The WCR Permits Office proposes to revise one permit within the collection of information approved under OMB Control Number 0648-0204.

Currently, under 50 CFR part 660.707, HMS permits are issued to vessels that fish for HMS off or land HMS in the States of California, Oregon, and Washington. Permits are issued for a 2-year term and remain valid until the first date of renewal. The Inter-American Tropical Tuna Commission (IATTC) adopted amended Resolution C-11-06 which requires a vessel on the IATTC regional vessel registry to add a photograph of the vessel showing its identifying vessel markings. NMFS proposed to revise OMB Control Number 0648-0204 to require new and renewing applicants to submit a vessel photo with their application. Owners can email or mail photographs to the Long Beach Permits Office, which in turn will be submitted to the IATTC vessel database manager. Online submission option is expected to be available through the National Permits System (NPS) by 2016 year-end.

NMFS estimates this revision could affect up to 1639 respondents, which is the total number of permitted HMS vessels. Currently, HMS renewal forms are mailed to permit holders within 60 days prior to expiration. To reduce the expected burden from photo submission, pre-filled renewal forms with basic data will substitute the current renewal application. Forms can be completed by signing and dating a statement of acknowledgement that all current information is correct.

The basic information collected from applicants will remain the same. There will be minimal expected public burden to submit photographs, which will not apply after the initial photo is submitted. There will be no additional burden beyond the estimated application processing time or recordkeeping/reporting costs.

Affected Public: Business or other for-profit organizations; individuals or households.

Frequency: Biannually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 20, 2016.
Sarah Brabson,
NOAA PRA Clearance Officer.

[FR Doc. 2016-17471 Filed 7-22-16; 8:45 am]

BILLING CODE 3510-22-P